DEPARTMENT OF COMMERCE

International Trade Administration

[C-570-107]

Wooden Cabinets and Vanities and Components Thereof From the People's Republic of China: Final Results of Countervailing Duty Administrative Review; 2022

AGENCY: Enforcement and Compliance, International Trade Administration, Department of Commerce.

SUMMARY: The U.S. Department of Commerce (Commerce) determines that certain producers and exporters of wooden cabinets and vanities and components thereof (wooden cabinets) from the People's Republic of China (China) received countervailable subsidies during the period of review (POR) January 1, 2022, through December 31, 2022.

DATES: Applicable November 12, 2024.

FOR FURTHER INFORMATION CONTACT: Michael Romani or Suresh Maniam, AD/CVD Operations, Office I, Enforcement and Compliance, International Trade Administration, U.S. Department of Commerce, 1401 Constitution Avenue NW, Washington, DC 20230; telephone: (202) 482-0198 or (202) 482-1603, respectively.

SUPPLEMENTARY INFORMATION:

Background

On May 2, 2024, Commerce published the Preliminary Results of this administrative review in the Federal Register and invited comments from interested parties.¹ For a complete description of the events that occurred since the Preliminary Results, see the Issues and Decision Memorandum.² Commerce conducted this review in accordance with section 751(a)(1)(A) of the Tariff Act of 1930, as amended (the Act).

¹ See Wooden Cabinets and Vanities and Components Thereof from the People's Republic of China: Preliminary Results and Partial Rescission of Countervailing Duty Administrative Review; 2022, 89 FR 35782 (May 2, 2024) (Preliminary Results), and accompanying Preliminary Decision Memorandum.

² See Memorandum, “Issues and Decision Memorandum for the Final Results of the Countervailing Duty Administrative Review of Wooden Cabinets and Vanities and Components Thereof from the People's Republic of China; 2022,” dated concurrently with, and hereby adopted by, this notice (Issues and Decision Memorandum).

Scope of the Order

The products covered by the Order are wooden cabinets from China. For a full description of the scope of the order, see the Issues and Decision Memorandum.

Analysis of Comments Received

All issues raised by the interested parties in their case and rebuttal briefs are addressed in the Issues and Decision Memorandum. The topics discussed and the issues raised by parties to which we responded in the Issues and Decision Memorandum are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments received from interested parties, we made changes to the net countervailable subsidy rates for The Ancientree Cabinet Co., Ltd. (Ancientree) and Yixing Pengjia Cabinetry Co., Ltd. (Pengjia). For a discussion of these changes, see the Issues and Decision Memorandum.

Methodology

Commerce conducted this administrative review in accordance with section 751(a)(1)(A) the Act. For each of the subsidy programs found to be countervailable, we determine that there is a subsidy, i.e., a government-provided financial contribution that gives rise to a benefit to the recipient, and that the subsidy is specific.³ In making this final determination, Commerce relied, in part, on facts otherwise available, including with an adverse inference, pursuant to sections 776(a) and (b) of the Act. For a full description of the methodology underlying all of Commerce's conclusions, see the Issues and Decision Memorandum.

³ See sections 771(5)(B) and (D) of the Act regarding financial contribution; section 771(5)(E) of the Act regarding benefit; and section 771(5A) of the Act regarding specificity.

Companies Not Selected for Individual Review

The statute and Commerce's regulations do not address the establishment of a rate to be applied to companies not selected for individual examination when Commerce limits its examination in an administrative review pursuant to section 777A(e)(2) of the Act. However, Commerce normally determines the rates for non-selected companies in reviews in a manner that is consistent with section 705(c)(5) of the Act, which provides the basis for calculating the all others rate in an investigation. Section 705(c)(5)(A)(i) of the Act instructs Commerce, as a general rule, to calculate the all-others rate equal to the weighted average of the countervailable subsidy rates established for exporters and producers individually investigated, excluding any zero or de minimis countervailable subsidy rates, and any rates determined entirely on the basis of facts available.

There are seven companies for which a review was requested and not rescinded, and which were not selected as mandatory respondents or found to be cross-owned with a mandatory respondent. In this review, the rates for Ancientree and Pengjia were above de minimis and not based entirely on facts available. Therefore, we are applying to the non-selected companies the average of the net subsidy rates calculated for Ancientree and Pengjia, which we calculated using the publicly-ranged sales data submitted by Ancientree and Pengjia.⁴

⁴ With two respondents under examination, Commerce normally calculates: (A) a weighted-average of the estimated subsidy rates calculated for the examined respondents; (B) a simple average of the estimated subsidy rates calculated for the examined respondents; and (C) a weighted average of the estimated subsidy rates calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an order in Part, 75 FR 53661, 53663 (September 1, 2010).

Final Results of Administrative Review

Commerce determines that the following net countervailable subsidy rates exist for the period January 1, 2022, through December 31, 2022:

⁵ This company was formerly known as Yixing Pengjia Cabinetry Co., Ltd. See Pengjia's Letter “Section III,” dated January 4, 2024, at 2 and Exhibit 5.1.

⁶ Commerce previously found Shanghai Beautystar Cabinetry Co., Ltd. to be a cross-owned affiliate with Jiangsu Sunwell Cabinetry Co Ltd. See Wooden Cabinets and Vanities and Components Thereof from the People's Republic of China: Preliminary Results of Countervailing Duty Administrative Review, Rescission of Administrative Review in Part, and Intent To Rescind in Part; 2021, 88 FR 29084 (May 5, 2023), and accompanying Preliminary Decision Memorandum at 33, unchanged in Wooden Cabinets and Vanities and Components Thereof from the People's Republic of China: Final Results and Partial Recission of Countervailing Duty Administrative Review, 2021, 88 FR 76732 (November 7, 2023).

⁷ This rate is based on the rate for the respondents that were selected for individual review, excluding rates that are zero, de minimis, or based entirely on facts available. See section 705(c)(5)(A) of the Act.

Producer/exporter | Subsidy rate (percent ad valorem)
The Ancientree Cabinet Co., Ltd | 11.99
Yixing Pengjia Technology Co., Ltd ⁵ | 0.92
Jiangsu Sunwell Cabinetry Co Ltd ⁶ | 163.46
Taizhou Overseas Trading Company Ltd | 163.46
Taishan Oversea Trading Company Ltd | 163.46
Review-Specific Average Rate Applicable to the Following Companies ⁷
Fujian Dushi Wooden Industry Co., Ltd | 10.92
Fuzhou CBM Import & Export Co., Ltd | 10.92
KM Cabinetry Co., Ltd | 10.92
Nantong Aershin Cabinet Co., Ltd | 10.92
Shouguang Fushi Wood Co., Ltd | 10.92
Weifang Fuxing Wood Co., Ltd | 10.92
Xiamen Adler Cabinetry Co., Ltd | 10.92

Disclosure

Commerce intends to disclose the calculations and analysis performed for these final results of review within five days of the date of publication of this notice in the Federal Register, in accordance with 19 CFR 351.224(b).

Assessment

In accordance with section 751(a)(2)(C) of the Act and 19 CFR 351.212(b)(2), Commerce shall determine, and U.S. Customs and Border Protection (CBP) shall assess, countervailing duties on all appropriate entries covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) and (a)(2)(C) of the Act, Commerce also intends to instruct CBP to collect cash deposits of estimated countervailing duties in the amounts shown above for the companies listed above for shipments of subject merchandise entered, or withdrawn from warehouse, for consumption on or after the date of publication of these final results of review. For all non-reviewed firms, we will instruct CBP to continue to collect cash deposits of estimated countervailing duties at the all-others rate or the most recent company-specific rate applicable to the company, as appropriate. These cash deposit requirements, when imposed, shall remain in effect until further notice.

Certification

Following the publication of this notice, the importer, or the importer's agent, must continue to submit any required certifications to CBP as part of the entry process by uploading them into the document imaging system in CBP's Automated Commercial Environment at the time of entry summary filing. Consistent with CBP's procedures, importers shall also identify entries required to have certifications by using importers' additional declaration (record 54) AD/CVD Certification Designation (type code 06) when filing entry summary.⁸

⁸ See Cargo System Messaging Service #59384253, dated 02/12/2024; see also Announcing an Importer's Additional Declaration in the Automated Commercial Environment Specific to Antidumping/Countervailing Duty Certifications, 89 FR 7372 (February 2, 2024).

Administrative Protective Order

This notice also serves as a final reminder to parties subject to an administrative protective order (APO) of their responsibility concerning the destruction of proprietary information disclosed under APO in accordance with 19 CFR 351.305(a)(3). Timely written notification of the return or destruction of APO materials or conversion to judicial protective order, is hereby requested. Failure to comply with the regulations and terms of an APO is a violation subject to sanction.

Notification to Interested Parties

The final results are issued and published in accordance with sections 751(a)(1) and 777(i)(1) of the Act and 19 CFR 351.221(b)(5).

Dated: November 5, 2024.
Abdelali Elouaradia,
Deputy Assistant Secretary for Enforcement and Compliance.

Appendix

List of Topics Discussed in the Issues and Decision Memorandum

I. Summary

II. Background

III. Scope of the Order

IV. Non-Selected Companies Under Review

V. Subsidies Valuation

VI. Use of Facts Otherwise Available and Application of Adverse Inferences

VII. Analysis of Programs

VIII. Discussion of Issues

Comment 1: Whether Commerce Should Calculate a Land Purchase Benefit for Jiangsu Yunru

Comment 2: Whether Commerce Should Apply Adverse Facts Available (AFA) to the Export Buyer's Credit (EBC) Program for Ancientree

Comment 3: Whether Commerce Should Revise the Calculation of the Benchmark Interest Applied to Ancientree's Policy Loans

Comment 4: Whether Commerce should Rely on Freightos Data in its Ocean Freight Benchmarks

Comment 5: Whether Commerce should Exclude Pengjia's Sales that Are Not Related to Productive Activities

Comment 6: Whether Species Specific Sawnwood Benchmarks are Appropriate

Comment 7: Whether Commerce Should Continue to Countervail the Provision of Certain Inputs for LTAR Based on AFA

Comment 8: Whether Commerce Should Revise the Calculation of the Benefit for the Provision of Electricity for LTAR Program for Ancientree

Comment 9: Whether Commerce Should Apply AFA to the Provision of Electricity for LTAR

Comment 10: Whether Commerce Should Apply AFA to the Provision of Water for LTAR

Comment 11: Whether Income Tax Reductions under Article 28 of the Enterprise Income Tax is Specific

Comment 12: Whether It is Appropriate to Consider Other Subsidies

IX. Recommendation

[FR Doc. 2024-26175 Filed 11-8-24; 8:45 am]

BILLING CODE 3510-DS-P